POSTAL SERVICE

Sunshine Act Meeting

Date and Time: Tuesday, November 14, 2006, at 2 p.m.; and Wednesday, November 15, 2006, at 8:30 a.m.

Place: Washington, DC., at U.S. Postal Service Headquarters, 475 L'Enfant Plaza, SW., in the Benjamin Franklin Room.

Status: November 14—2 p.m.—Closed; November 15—8:30 a.m.—Open.

Matters to be Considered:

Tuesday, November 14 at 2 p.m. (Closed).

1. Strategic Planning.

2. Rate Case Updated.

3. Labor Negotiations Update.

4. Audit and Finance Committee Report and Review of 2006 Year-End Financial Statements.

5. Financial Update.

6. Personnel Matters and Compensation Issues.

Wednesday, November 15 at 8:30 a.m. (Open).

1. Minutes of the Previous Meeting, September 11-12, 2006.

2. Remarks of the Postmaster General and CEO Jack Potter.

3. Committee Reports.

4. Quarterly Report on Service Performance.

5. Consideration of Fiscal Year 2006 Audited Financial Statements.

6. Tentative Agenda for the December 5-6, 2006, meeting in Washington, DC.

Contact Person for More Information: Wendy A. Hocking, Secretary of the Board, U.S. Postal Service, 475 L'Enfant Plaza, SW., Washington, DC 20260-1000. Telephone (202) 268-4800.

Wendy A. Hocking,
Secretary.

[FR Doc. 06-9131 Filed 11-3-06; 4:14 pm]

BILLING CODE 7710-12-M